DEPARTMENT OF THE INTERIOR

National Park Service

[2253-665]

Notice of Intent To Repatriate a Cultural Item: Denver Museum of Nature and Science, Denver, CO

AGENCY: National Park Service, Interior.

ACTION: Notice.

SUMMARY: The Denver Museum of Nature & Science, in consultation with the appropriate Indian Tribe, has determined that a cultural item meets the definition of an object of cultural patrimony and that repatriation to the Indian Tribe stated below may occur if no additional claimants come forward. Representatives of any Indian Tribe that believes itself to be culturally affiliated with the cultural item may contact the Denver Museum of Nature & Science.

DATES: Representatives of any Indian Tribe that believes it has a cultural affiliation with the cultural item should contact the Denver Museum of Nature & Science at the address below by October 19, 2011.

ADDRESSES: Dr. Chip Colwell-Chanthaphonh, Curator of Anthropology, NAGPRA Officer, Department of Anthropology, Denver Museum of Nature & Science, 2001 Colorado Boulevard, Denver, CO 80205, telephone (303) 370-6378.

SUPPLEMENTARY INFORMATION: Notice is here given in accordance with the Native American Graves Protection and Repatriation Act (NAGPRA), 25 U.S.C. 3005, of the intent to repatriate a cultural item in the possession of the Denver Museum of Nature & Science, Denver, CO, that meets the definition of an object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

The cultural item is a wooden hat (AC.11506) in the shape of an eagle that is carved and painted. The hat measures 18 inches long, 14 inches wide, and 9 inches high at the top of head. It is painted in bright colors, including red, white, black, yellow, orange and light blue. The head and tail are painted white, and the body is brown. There are areas on the hat that have inlaid abalone. Two rawhide strips form head ties. One eagle wing has been broken and repaired.

During consultation, the Hoonah Indian Association, working on behalf of the Huna Tlingit Tribe, Gooch Hit/Wolf House, Kaagwaantaan Clan of Hoonah, Alaska, provided evidence that identifies the hat as Kaagwaantaan Wolf Clan, Eagle Moiety. The claim submitted by the Hoonah Indian Association details the Clan's claim to the hat as an object of cultural patrimony, which a single individual cannot alienate.

Oral history indicates that the hat is believed to have been carved by Yeil naa wu/Dick Yetima of Deisheetaan Clan, Raven House, from Angoon. The hat then belonged to the Kaagwaantaan Wolf Clan under the care of Yak Kwaan/Jim Martin. At an unknown date, it passed to clan caretaker X ee T'lee-eesh/Robert Grant, Sr. In 1966, the hat came into the control of clan caretaker Robert “Jeff” David, Sr. After it came into the control of Mr. David, the hat was sold. It appears that the hat was sold without the consent of family or Clan, as the Clan thought it was lost or stolen, since there was no explanation of where it had gone.

Museum records show that the hat was purchased by Francis V. and Mary Crane from Michael R. Johnson of the Michael R. Johnson Gallery, Seattle, WA, on April 1, 1975. The hat was then given by the Cranes to the Denver Museum of Natural History (now Denver Museum of Nature & Science). The description of the purchase also shows that the hat was carved circa 1930, and was purchased from Mr. Jeff David of Haines, AK, who stated that the hat was from Hoona [sic], Alaska.

Determinations Made by the Denver Museum of Nature & Science

Officials of the Denver Museum of Nature & Science have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Hoonah Indian Association.

Additional Requestors and Disposition

Representatives of any other Indian Tribe that believes itself to be culturally affiliated with the object of cultural patrimony should contact Dr. Chip Colwell-Chanthaphonh, Curator of Anthropology, NAGPRA Officer, Department of Anthropology, Denver Museum of Nature & Science, 2001 Colorado Boulevard, Denver, CO 80205, telephone (303) 370-6378, before October 19, 2011. Repatriation of the object of cultural patrimony to the Hoonah Indian Association, on behalf of the Gooch Hit/Wolf House of the Kaagwaantaan Clan of Hoonah, Alaska, may proceed after that date if no additional claimants come forward.

The Denver Museum of Nature & Science is responsible for notifying the Hoonah Indian Association that this notice has been published.

Dated: September 14, 2011.
Sherry Hutt,
Manager, National NAGPRA Program.

[FR Doc. 2011-23974 Filed 9-16-11; 8:45 am]

BILLING CODE 4312-50-P